DEPARTMENT OF THE INTERIOR

Fish and Wildlife Service

[FWS-HQ-LE-2019-N091; FF09L00200-FX-LE18110900000; OMB Control Number 1018-0129]

Agency Information Collection Activities; Submission to the Office of Management and Budget for Review and Approval; Captive Wildlife Safety Act

AGENCY: Fish and Wildlife Service, Interior.

ACTION: Notice of information collection; request for comment.

SUMMARY: In accordance with the Paperwork Reduction Act of 1995, we, the U.S. Fish and Wildlife Service (Service), are proposing to renew an information collection.

DATES: Interested persons are invited to submit comments on or before October 7, 2019.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: JAO/1N PRB/PERMA, 5275 Leesburg Pike, Falls Church, VA 22041-3803 (mail); or by email to Info_Coll@fws.gov. Please reference OMB Control Number 1018-0129 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On December 27, 2018, we published a Federal Register notice soliciting comments on this collection of information for 60 days, ending on February 25, 2019 (83 FR 66740). We received one comment in response to the Federal Register notice:

Comment: On February 11, 2019, we received a comment from the Executive Director of the Zoological Association of America (ZAA). The ZAA strongly opposes the elimination of recordkeeping requirements or any further preference proposed by the Service for wildlife sanctuaries under the Captive Wildlife Safety Act. The ZAA specifically cited their objection to the “accredited wildlife sanctuary” exemption that they feel largely hinges on IRS 501(c)(3) status and not wildlife expertise. ZAA stated that any reputable wildlife holding facility should have extensive records, including acquisition and disposition records, as well as husbandry and medical records. These records establish the basis of knowledge and care of every animal in the care of a facility, and no facility, accredited or not, should be exempt from having such records.

Agency Response: No action required. The Service is not seeking to eliminate the records keeping requirement. The Federal Register notice announced our intention to renew the information collection requirements established under the CWSA for accredited wildlife sanctuaries. Additionally, changes to, or removal of, the eligibility requirements by accredited wildlife sanctuaries under the CWSA would require a substantive change to the Act by Congress. Such changes would not be part of this information collection.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Captive Wildlife Safety Act (CWSA; Pub. L. 108-191; 16 U.S.C. 3371 note and 16 U.S.C. 3372 note) amends the Lacey Act (16 U.S.C. 3371 et seq.; 18 U.S.C. 42-43) by making it illegal to import, export, buy, sell, transport, receive, or acquire, in interstate or foreign commerce, live lions, tigers, leopards, snow leopards, clouded leopards, cheetahs, jaguars, or cougars, or any hybrid combination of any of these species, unless certain exceptions are met. The CWSA was signed into law in 2003 and enforcement began on September 17, 2007. There are several exemptions to the prohibitions of the CWSA, including accredited wildlife sanctuaries. There is no requirement for wildlife sanctuaries to submit applications to qualify for the accredited wildlife sanctuary exemption. Wildlife sanctuaries themselves will determine if they qualify. As a matter of routine, we do not inspect or follow-up on wildlife sanctuaries unless we have cause for concern. To qualify, they must meet all of the following criteria:

• Obtain approval by the U.S. Internal Revenue Service (IRS) as a corporation that is exempt from taxation under section 501(a) of the IRS Code of 1986 (Pub. L. 99-514), which is described in sections 501(c)(3) and 170(b)(1)(A)(vi) of that code.

• Do not engage in commercial trade in the prohibited wildlife species, including offspring, parts, and products.

• Do not propagate the prohibited wildlife species.

• Have no direct contact between the public and the prohibited wildlife species.

The basis for this information collection is the recordkeeping requirement that we place on accredited wildlife sanctuaries. We require accredited wildlife sanctuaries to maintain complete and accurate records of any possession, transportation, acquisition, disposition, importation, or exportation of the prohibited wildlife species as defined in the CWSA (see title 50 of the Code of Federal Regulations (CFR) at part 14, subpart K). Records must be up to date and include: (1) Names and addresses of persons to or from whom any prohibited wildlife species has been acquired, imported, exported, purchased, sold, or otherwise transferred; and (2) dates of these transactions. Accredited wildlife sanctuaries must:

• Maintain these records for 5 years.

• Make these records accessible to Service officials for inspection at reasonable hours.

• Copy these records for Service officials, if requested.

Title of Collection: Captive Wildlife Safety Act, 50 CFR 14.250-14.255.

OMB Control Number: 1018-0129.

Form Number: None.

Type of Review: Extension of a currently approved collection.

Respondents/Affected Public: Accredited wildlife sanctuaries.

Total Estimated Number of Annual Respondents: 750.

Total Estimated Number of Annual Responses: 750.

Estimated Completion Time per Response: 1 hour.

Total Estimated Number of Annual Burden Hours: 750.

Respondent's Obligation: Required to obtain or retain a benefit.

Frequency of Collection: Ongoing.

Total Estimated Annual Nonhour Burden Cost: $300.

An agency may not conduct or sponsor and a person is not required to respond to a collection of information unless it displays a currently valid OMB control number.

The authority for this action is the Paperwork Reduction Act of 1995 (44 U.S.C. 3501 et seq.).

Dated: August 30, 2019.
Madonna Baucum,
Information Collection Clearance Officer, U.S. Fish and Wildlife Service.

[FR Doc. 2019-19173 Filed 9-4-19; 8:45 am]

BILLING CODE 4333-15-P